DEPARTMENT OF HEALTH AND HUMAN SERVICES

Administration for Children and Families

Federal Allotments to State Developmental Disabilities Councils (DDC) and Protection and Advocacy (P&A) Formula Grant Programs for Fiscal Year 2002

AGENCY: Administration on Developmental Disabilities (ADD), Administration for Children and Families, Department of Health and Human Services.

ACTION: Notification of Fiscal Year 2002 Federal allotments to State Developmental Disabilities Councils and Protection and Advocacy formula grant programs.

SUMMARY: This notice sets forth Fiscal Year (FY) 2002 individual allotments and percentages to States administering the State Developmental Disabilities Councils and Protection and Advocacy programs, pursuant to Section 122 and Section 142 of the Developmental Disabilities Assistance and Bill of Rights Act (Act). The allotment amounts are based upon the FY 2001 Budget Request and are contingent upon congressional appropriations for FY 2002. If Congress enacts and the President approves a different appropriation amount, the allotments will be adjusted accordingly. The individual allotments will be available April 1, 2001 on the ADD homepage on the Internet: http://www. act.dhhs.gov/programs/add/.

EFFECTIVE DATE: October 1, 2001.

FOR FURTHER INFORMATION CONTACT: Doris Lee, Grants Fiscal Management Specialist, Office of Management Services, Administration for Children, Youth and Families, telephone (202) 205-4626.

SUPPLEMENTARY INFORMATION: Section 122(a)(2) of the Act requires that adjustments in the amounts of State allotments shall be made not more often than annually and that States are to be notified no less than six (6) months before the beginning of the fiscal year in which such adjustment is to take effect. In relation to the State DDC allotments, the description of service needs were reviewed in the State plans and are consistent with the results obtained from the data elements and projected formula amounts for each State (Section 122(a)(5)).

The Administration on Developmental Disabilities has updated the following data elements for issuance of Fiscal Year 2002 allotments for the Developmental Disabilities formula grant programs.

A. The number of beneficiaries in each State and Territory under the Childhood Disabilities Beneficiary Program are from Table 5.J10 of the “Annual Statistical Supplement, 2000 to the Social Security Bulletin” issued by the Social Security Administration;

B. State data on Average Per Capita Income are from Table 1—Personal Income and Per Capita Personal Income by State and Region, 1996-99 of the “Survey of Current Business,” October, 2000, issued by the Bureau of Economic Analysis, U.S. Department of Commerce; comparable data for the Territories also were obtained from the Department of Commerce October, 2000; and

C. State data on Total Population and Working Population (ages 18-64) as of July 1, 1999, are from the “Estimate of Resident Population of the U.S. by Selected Age Groups and Sex,” issued by the Bureau of the Census, U.S. Department of Commerce. Total population estimates for the Territories, as of 1999, are from the Statistical Abstract of the United States: 2000 issued by the Bureau of Census. The Territories working population was issued in the Bureau of Census report, “General Characteristics Report: 1980,” which is the most recent data available from the Bureau.

Table 1.—FY 2002 Allotments—Administration on Developmental Disabilities
| Developmental disabilities councils | Percentage
Total | ¹ $67,800,000 | 100.000000
Alabama | 1,316,694 | 1.942027
Alaska | 20,477 | .620173
Arizona | 965,108 | 1.423463
Arkansas | 768,612 | 1.133646
California | 5,876,564 | 8.667492
Colorado | 732,816 | 1.080850
Connecticut | 678,461 | 1.000680
Delaware | 420,477 | .620173
District of Columbia | 420,477 | .620173
Florida | 2,856,147 | 4.212606
Georgia | 1,657,371 | 2.444500
Hawaii | 420,477 | .620173
Idaho | 420,477 | .620173
Illinois | 2,656,686 | 3.918416
Indiana | 1,465,626 | 2.161690
Iowa | 795,933 | 1.173942
Kansas | 610,953 | .901111
Kentucky | 1,218,231 | 1.796801
Louisiana | 1,414,383 | 2.086111
Maine | 420,477 | .620173
Maryland | 926,442 | 1.366434
Massachusetts | 1,311,359 | 1.934158
Michigan | 2,378,843 | 3.508618
Minnesota | 1,007,871 | 1.486535
Mississippi | 938,115 | 1.383650
Missouri | 1,326,270 | 1.956150
Montana | 420,477 | .620173
Nebraska | 425,955 | .628252
Nevada | 420,477 | .620173
New Hampshire | 420,477 | .620173
New Jersey | 1,493,616 | 2.202973
New Mexico | 462.147 | .681633
New York | 4,150,337 | 6.121441
North Carolina | 1,817,454 | 2.680611
North Dakota | 420,477 | .620173
Ohio | 2,870,118 | 4.233212
Oklahoma | 912,780 | 1.346283
Oregon | 703,155 | 1.037102
Pennsylvania | 3,111,570 | 4.589336
Rhode Island | 420,477 | .620173
South Carolina | 1,059,459 | 1.567300
South Dakota | 420,477 | .620173
Tennessee | 1,443,822 | 2.129531
Texas | 4,290,573 | 6.328279
Utah | 521,763 | .769562
Vermont | 420,477 | .620173
Virginia | 1,374,780 | 2.027699
Washington | 1,066,152 | 1.572496
West Virginia | 765,828 | 1.129540
Wisconsin | 1,284,774 | 1.894947
Wyoming | 420,477 | .620173
American Samoa | 220,752 | .325593
Guam | 220,752 | .325593
Northern Mariana Islands | 220,752 | .325593
Puerto Rico | 2,373,546 | 3.500805
Virgin Islands | 220,752 | .325593
¹ Allocations are computed based on the requirements of Section 122(a)(4)(B), Reduction of Allotment of the Act.

Table 2.—FY 2002 Allotments—Administration on Developmental Disabilities
State | Protection and advocacy | Percentage
Total | ¹ $32,340,000 | 100.000000
Alabama | 544,401 | 1.683367
Alaska | 314,319 | .971920
Arizona | 454,324 | 1.404836
Arkansas | 323,364 | .999889
California | 2,776,522 | 8.585411
Colorado | 344,211 | 1.064351
Connecticut | 326,619 | 1.009954
Delaware | 314,319 | .971920
District of Columbia | 314,319 | .971920
Florida | 1,404,766 | 4.343741
Georgia | 766,845 | 2.371197
Hawaii | 314,319 | .971920
Idaho | 314,319 | .971920
Illinois | 1,113,210 | 3.442208
Indiana | 631,366 | 1.952276
Iowa | 320,978 | .992511
Kansas | 314,319 | .971920
Kentucky | 503,612 | 1.557242
Louisiana | 557,936 | 1.725220
Maine | 314,319 | .971920
Maryland | 427,672 | 1.322424
Massachusetts | 550,395 | 1.701902
Michigan | 1,047,124 | 3.237860
Minnesota | 434,873 | 1.344691
Mississippi | 387,714 | 1.198868
Missouri | 574,279 | 1.775754
Montana | 314,319 | .971920
Nebraska | 314,319 | .971920
Nevada | 314,319 | .971920
New Hampshire | 314,319 | .971920
New Jersey | 658,758 | 2.036976
New Mexico | 314,319 | .971920
New York | 1,680,809 | 5.197307
North Carolina | 810,417 | 2.505928
North Dakota | 14,319 | .971920
Ohio | 1,207,229 | 3.732928
Oklahoma | 380,649 | 1.177022
Oregon | 329,527 | 1.018946
Pennsylvania | 1,263,351 | 3.906466
Rhode Island | 314,319 | .971920
South Carolina | 465,271 | 1.438686
South Dakota | 314,319 | .971920
Tennessee | 619,765 | 1.916404
Texas | 1,860,544 | 5.753074
Utah | 314,319 | .971920
Vermont | 314,319 | .971920
Virginia | 637,072 | 1.969920
Washington | 487,689 | 1.508006
West Virginia | 338,198 | 1.045758
Wisconsin | 548,445 | 1.695872
Wyoming | 314,319 | .971920
American Samoa | 168,175 | .520022
Guam | 168,175 | .520022
Northern Mariana Islands | 168,175 | .520022
Puerto Rico | 897,039 | 3.288336
Virgin Islands | 168,175 | .520022
DNA People Legal Services ² | 168,175 | .520022
¹ In accordance with Public Law 106-402, Section 142(a)(6), $660,000 has been withheld to fund technical assistance. The stature provides for spending up to two percent (2%) of the amount appropriated under Section 142 for this purpose. Unused funds will be reallotted in accordance with Section 142(c) of the Act.
² American Indian Consortiums are eligible to receive an allotment under Section 142(a)(6)(B) of the Act.

Dated: March 21, 2001.
Sue Swenson,
Commissioner, Administration on Developmental Disabilities.

[FR Doc. 01-7963 Filed 3-30-01; 8:45 am]

BILLING CODE 4184-01-P